DEPARTMENT OF TRANSPORTATION

National Highway Traffic Safety Administration

[Docket No. NHTSA-2012-0041; Notice 2]

Hyundai Motor Company, Grant of Petition for Decision of Inconsequential Noncompliance

AGENCY: National Highway Traffic Safety Administration, DOT.

ACTION: Grant of Petition.

SUMMARY: Hyundai America Technical Center, Inc., on behalf of Hyundai Motor Company (collectively referred to as “Hyundai”) ¹ has determined that certain model year (MY) 2011 and 2012 Hyundai Sonata Hybrid passenger cars, do not fully comply with paragraph § 4.1.5.5.2 of Federal Motor Vehicle Safety Standard (FMVSS) No. 208, Occupant Crash Protection. Hyundai has filed an appropriate report dated March 8, 2012, pursuant to 49 CFR Part 573, Defect and Noncompliance Responsibility and Reports.

¹ Hyundai America Technical Center, Inc. is a corporation registered under the laws of the state of Michigan.

Pursuant to 49 U.S.C. 30118(d) and 30120(h) and the rule implementing those provisions at 49 CFR part 556, Hyundai has petitioned for an exemption from the notification and remedy requirements of 49 U.S.C. Chapter 301 on the basis that this noncompliance is inconsequential to motor vehicle safety. Notice of receipt of the petition was published, with a 30-day public comment period, on April 13, 2012 in the Federal Register (77 FR 22386). No comments were received. To view the petition and all supporting documents log onto the Federal Docket Management System (FDMS) Web site at: http://www.regulations.gov/. Then follow the online search instructions to locate docket number “NHTSA-2012-0041.”

Contact Information: For further information on this decision contact Mr. Lawrence Valvo, Office of Vehicle Safety Compliance, the National Highway Traffic Safety Administration (NHTSA), telephone (202) 366-5359, facsimile (202) 366-3081.

Vehicles Involved: Affected are approximately 14,728 MY 2011 and 2012 Hyundai Sonata Hybrid vehicles produced beginning on December 2, 2010 and shipped to dealers through March 7, 2012 that are equipped with a center rear seat belt incorporating a release mechanism that detaches both the lap and shoulder portion at the lower anchorage point.

Background Requirement: Section 4.1.5.5 of FMVSS No. 208 specially states:

§ 4.1.5.5 Passenger cars manufactured on or after September 1, 2007.

§ 4.1.5.5.1 Except as provided in § 4.1.5.5.2, each passenger car shall have a Type 2 seat belt assembly that conforms to Standard No. 209 and to § 7.1 and § 7.2 of this standard at each rear designated seating position, except that side-facing designated seating positions shall have a Type 1 or Type 2 seat belt assembly that conforms to Standard No. 209 and to § 7.1 and § 7.2 of this standard.

§ 4.1.5.5.2 Any inboard designated seating position on a seat for which the entire seat back can be folded (including the head restraints and any other part of the vehicle attached to the seat back) such that no part of the seat back extends above a horizontal plane located 250 mm above the highest SRP located on the seat may meet the requirements of § 4.1.5.5.1 by use of a belt incorporating a release mechanism that detaches both the lap and shoulder portion at either the upper or lower anchorage point, but not both. The means of detachment shall be a key or key-like object.

Summary of Hyundai's Analyses: Hyundai explains that the noncompliance is that the affected vehicles do not comply with § 4.1.5.5.2 because they are equipped with a non-folding rear seat back and a center rear seat belt incorporating a release mechanism that detaches both the lap and shoulder portion at the lower anchorage point to allow improved assembly line procedures.

Hyundai believes that the installation of a center rear seat belt incorporating a release mechanism that detaches both the lap and shoulder portion at the lower anchorage point in a vehicle with a non-folding rear seat back is inconsequential as it relates to motor vehicle safety. The seat belt assembly complies with FMVSS No. 208 requirements and with FMVSS No. 209 requirements, with the sole exception that it may be detached from the lower anchorage by use of a tool, such as a key or key-like object. If the rear seat back of the Sonata Hybrid vehicle was simply capable of being folded, which would have no effect upon seat belt performance; this detachable aspect would not result in a compliance issue.

Hyundai also stated its belief that it is clear from the intended difficulty in detaching the seat belt and the instructions contained in the vehicle owner's manual that the seat belt should not be detached. Further, in the Sonata Hybrid with a fixed rear seat back, there is no advantage or reason for the owner to detach the center rear seat belt from the lower anchorage.

Based on these arguments, Hyundai Motor Company does not believe that it is appropriate to conduct a recall campaign to replace the center rear seat belts in vehicles that have been delivered to customers.

Hyundai has additionally informed NHTSA that it has corrected the noncompliance so that all future production vehicles will comply with FMVSS No. 208.

In summation, Hyundai believes that the described noncompliance of the subject vehicles is inconsequential to motor vehicle safety, and that its petition, to exempt from providing recall notification of noncompliance as required by 49 U.S.C. 30118 and remedying the recall noncompliance as required by 49 U.S.C. 30120 should be granted.

NHTSA Decision: NHTSA has reviewed and accepts Hyundai's analyses that the noncompliance is inconsequential to motor vehicle safety. Hyundai has provided sufficient documentation that the center rear seat belt does comply with all other safety performance requirements of FMVSS No. 208 and has met its burden of persuasion. Accordingly, Hyundai's petition is hereby granted, and Hyundai is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the 14,728 vehicles that Hyundai no longer controlled at the time it determined that a noncompliance existed. However, the granting of this petition does not relieve distributors and dealers of the prohibitions on the sale, offer for sale, or introduction or delivery for introduction into interstate commerce of the noncompliant vehicles under their control after Hyundai notified them that the subject noncompliance existed.

Authority: 49 U.S.C. 30118, 30120: delegations of authority at 49 CFR 1.95 and 501.8.

Issued On: June 20, 2013.
Claude H. Harris,
Director, Office of Vehicle Safety Compliance.

[FR Doc. 2013-15281 Filed 6-25-13; 8:45 am]

BILLING CODE 4910-59-P